DEPARTMENT OF EDUCATION

Notice of Proposed Information Collection Requests

AGENCY: Department of Education.

ACTION: Correction notice.

SUMMARY: On December 9, 2005, a 60-day notice inviting comment from the public was inadvertently published for the “2004/06 Beginning Postsecondary Students Longitudinal Study (BPS:04/06)” in the Federal Register (70 FR 236) dated December 9, 2005. This notice amends the public comment period for this program to 30 days. The Leader, Information Management Case Services Team, Regulatory Information Management Services, Office of the Chief Information Officer, hereby issues a correction notice as required by the Paperwork Reduction Act of 1995.

DATES: Interested persons are invited to submit comments on or before January 17, 2006.

ADDRESSES: Written comment should be addressed to the Office of Information and Regulatory Affairs, Attention: Rachel Potter, Desk Officer, Department of Education, Office of Management and Budget, 725 17th Street, NW., Room 10235, New Executive Office Building, Washington, DC 20503. Written requests for information should be addressed to U.S. Department of Education, 400 Maryland Avenue, SW., Potomac Center, 9th Floor, Washington, DC 20202-4700. Requests may also be electronically or should be electronically mailed to the Internet address OCIO_RIMG@ed.gov or faxed to 202-245-6623.

FOR FURTHER INFORMATION CONTACT: Angela Arrington (202) 245-6409.

Dated: December 12, 2005.
Angela C. Arrington,
Leader, Information Management Case Services Team, Regulatory Information Management Services, Office of the Chief Information Officer.

[FR Doc. E5-7434 Filed 12-15-05; 8:45 am]

BILLING CODE 4000-01-P